DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its sixty-second meeting.

Name: National Advisory Committee on Rural Health and Human Services

Dates and Times: June 9, 2009, 9 a.m.—4:45 p.m.

June 10, 2009, 8:45 a.m.—3 p.m.

June 11, 2009, 8:45 a.m.—11 a.m.

Place: Hampton Inn,

1720 Rapp Street,

Rapid City, South Dakota 57701,

Phone: 605-348-1911.

Status: The meeting will be open to the public.

Purpose: The National Advisory Committee on Rural Health and Human Services provides advice and recommendations to the Secretary with respect to the delivery, research, development and administration of health and human services in rural areas.

Agenda: Tuesday morning, at 9 a.m., the meeting will be called to order by the Chairperson of the Committee, the Honorable David Beasley. The first presentation will be an overview of rural South Dakota by Dr. Sidney Goss, Professor of Demography, South Dakota School of Mines and Technology. The Committee will be formally welcomed by the South Dakota Office of Rural Health, Sandra Durick, Director. The Committee will hear presentations on the three chosen Subcommittee topics. The first panel will focus on Primary Care Workforce. The confirmed speakers are Dr. Bruce Vogt, Chair of Family Medicine, University of South Dakota; Dr. Charles Hart, CEO of Regional Health System; and Josie Peterson, South Dakota PCO Director. The second panel is Home-Based Care Options for Seniors. The confirmed speakers are Deb Bowman, Committee Member and Secretary of the South Dakota Department of Social Services; and Senator Jean Hunhoff, head of home care services at Yankton, South Dakota, and member of the task force on Meeting the Continuum of Care Needs of the Elderly in South Dakota. The final panel of the day is Health Care Provider Integration. The confirmed speakers are Tom Dean, MedPAC Member; Scot Graff, Community Healthcare Association of the Dakotas; and Matt Michaels, Health Care Attorney. After the panel discussions, the Committee Chair will give an overview of the site visits. The Tuesday meeting will close at 4:45 p.m.

Wednesday morning, at 8:45 a.m., the Committee will break into Subcommittees and depart to the site visits. The Primary Care Workforce Subcommittee will visit Phillip Health Services in Philip, South Dakota. The Home-Based Care Options for Seniors Subcommittee will visit Regional Health Hospice Center in Rapid City, South Dakota. The Health Care Provider Integration Subcommittee will visit Custer Regional Hospital in Custer, South Dakota. Transportation to the site visits will not be provided to the public. The Subcommittees will return to Rapid City, South Dakota at 3 p.m. The Wednesday meeting will close at 3 p.m.

The final session will be convened on Thursday morning at 8:45 a.m. The meeting will open with a review of the Subcommittee site visits. The staff of the Office of Rural Health Policy will provide an update on the Department of Health and Human Services. The Committee will draft a letter to the Secretary or Designee and discuss the September meeting.

For Further Information Contact: Anyone requiring information regarding the Committee should contact Jennifer Chang, MPH, Executive Secretary, National Advisory Committee on Rural Health and Human Services, Health Resources and Services Administration, Parklawn Building, Room 9A-55, 5600 Fishers Lane, Rockville, MD 20857, Telephone (301) 443-0835, Fax (301) 443-2803.

Persons interested in attending any portion of the meeting should contact Michele Pray Gibson, Office of Rural Health Policy (ORHP), Telephone (301) 443-0835. The Committee meeting agenda will be posted on ORHP's Web site http://www.ruralhealth.hrsa.gov.

Dated: April 11, 2009.
Alexandra Huttinger,
Director, Division of Policy Review and Coordination.

[FR Doc. E9-11441 Filed 5-14-09; 8:45 am]

BILLING CODE 4165-15-P